DEPARTMENT OF ENERGY

Federal Energy Regulatory Commission

Combined Notice of Filings #1

Take notice that the Commission received the following electric rate filings:

Docket Numbers: ER19-1575-002; ER10-3251-014; ER14-2382-014.

Applicants: Alta Oak Realty, LLC, Oak Creek Wind Power, LLC, ON Wind Energy LLC.

Description: Notice of Non-Material Change in Status of Alta Oak Realty, LLC, et al.

Filed Date: 8/29/19.

Accession Number: 20190829-5044.

Comments Due: 5 p.m. ET 9/19/19.

Docket Numbers: ER19-2697-000.

Applicants: Southern California Edison Company.

Description: § 205(d) Rate Filing: 1st Amended GIA New-Indy Ontario for New-Indy Ontario Proj to be effective 8/29/2019.

Filed Date: 8/28/19.

Accession Number: 20190828-5159.

Comments Due: 5 p.m. ET 9/18/19.

Docket Numbers: ER19-2698-000.

Applicants: Southwest Power Pool, Inc.

Description: § 205(d) Rate Filing: 2463R2 KEPCO NITSA NOA to be effective 8/1/2019.

Filed Date: 8/29/19.

Accession Number: 20190829-5020.

Comments Due: 5 p.m. ET 9/19/19.

Docket Numbers: ER19-2699-000.

Applicants: Southwest Power Pool, Inc.

Description: § 205(d) Rate Filing: 3055R1 Associated Electric Cooperative, Inc. NITSA NOA to be effective 8/1/2019.

Filed Date: 8/29/19.

Accession Number: 20190829-5027.

Comments Due: 5 p.m. ET 9/19/19.

Docket Numbers: ER19-2700-000.

Applicants: Southwest Power Pool, Inc.

Description: § 205(d) Rate Filing: 1148R26 American Electric Power NITSA and NOA to be effective 8/1/2019.

Filed Date: 8/29/19.

Accession Number: 20190829-5047.

Comments Due: 5 p.m. ET 9/19/19.

Docket Numbers: ER19-2701-000.

Applicants: Louisville Gas and Electric Company.

Description: § 205(d) Rate Filing: 2019 Amd Attachment Q Amd Rstd RC Agreement to be effective 9/1/2019.

Filed Date: 8/29/19.

Accession Number: 20190829-5055.

Comments Due: 5 p.m. ET 9/19/19.

Docket Numbers: ER19-2702-000.

Applicants: Oceanside Power LLC.

Description: Notice of Cancellation of Market-Based Rate Tariff of Oceanside Power LLC.

Filed Date: 8/27/19.

Accession Number: 20190829-0001.

Comments Due: 5 p.m. ET 9/17/19.

Docket Numbers: ER19-2703-000.

Applicants: PJM Interconnection, L.L.C., North Carolina Electric Membership Corporation.

Description: § 205(d) Rate Filing: PJM and NCEMC Submit Correction to Revised Service Agreement No. 3347 to be effective 7/1/2019.

Filed Date: 8/29/19.

Accession Number: 20190829-5097.

Comments Due: 5 p.m. ET 9/19/19.

Docket Numbers: ER19-2704-000.

Applicants: Idaho Power Company.

Description: § 205(d) Rate Filing: IPC-PAC JOOA Dated August 2019—Changes to Reflect One Mile, etc. to be effective 10/28/2019.

Filed Date: 8/29/19.

Accession Number: 20190829-5116.

Comments Due: 5 p.m. ET 9/19/19.

Docket Numbers: ER19-2705-000.

Applicants: Dominion Energy South Carolina, Inc.

Description: § 205(d) Rate Filing: Rate Schedule No. 228 Migration and OATT Attachment C Corrections to be effective 6/15/2019.

Filed Date: 8/29/19.

Accession Number: 20190829-5121.

Comments Due: 5 p.m. ET 9/19/19.

Docket Numbers: ER19-2706-000.

Applicants: PacifiCorp.

Description: § 205(d) Rate Filing: Idaho Power JOOA Concurrence RS 708 to be effective 10/28/2019.

Filed Date: 8/29/19.

Accession Number: 20190829-5134.

Comments Due: 5 p.m. ET 9/19/19.

Docket Numbers: ER19-2707-000.

Applicants: Poseidon Wind, LLC.

Description: Baseline eTariff Filing: Application for Market-Based Rate Authorization, Request for Related Waivers to be effective 10/29/2019.

Filed Date: 8/29/19.

Accession Number: 20190829-5140.

Comments Due: 5 p.m. ET 9/19/19.

Docket Numbers: ER19-2708-000.

Applicants: PJM Interconnection, L.L.C.

Description: § 205(d) Rate Filing: Revisions to Sch. 12-Appx A: July 2019 RTEP, 30-day Comments due to be effective 11/27/2019.

Filed Date: 8/29/19.

Accession Number: 20190829-5156.

Comments Due: 5 p.m. ET 9/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2019.
Nathaniel J. Davis, Sr.,
Deputy Secretary.

[FR Doc. 2019-19131 Filed 9-4-19; 8:45 am]

BILLING CODE 6717-01-P